DEPARTMENT OF TRANSPORTATION

Federal Aviation Administration

Notice of Intent To Rule on Request To Release Airport Property at the Helena Regional Airport, Helena, Montana

AGENCY: Federal Aviation Administration (FAA), Department of Transportation (DOT).

ACTION: Notice of Request to Release Airport Property.

SUMMARY: The FAA proposes to rule and invite public comment on the release of land at Helena Regional Airport (HLN) under the provisions of Section 125 of the Wendell H. Ford Aviation Investment Reform Act for the 21st Century (AIR 21), now 49 U.S.C. 47107(h)(2).

DATES: Comments must be received on or before June 24, 2011.

ADDRESSES: Comments on this application may be mailed or delivered to the FAA at the following address:

Mr. David S. Stelling, Manager, Federal Aviation Administration, Northwest Mountain Region, Airports Division, Helena Airports District Office, 2725 Skyway Drive, Suite 2, Helena, Montana 59602.

In addition, one copy of any comments submitted to the FAA must be mailed or delivered to Mr. Ronald Mercer, Airport Director, Helena Regional Airport Authority (HRAA), at the following address:

Mr. Ronald Mercer, Airport Director, Helena Regional Airport Authority, 2850 Skyway Drive, Helena, Montana 59602.

FOR FURTHER INFORMATION CONTACT:

Mr. Gary Gates, Airport Planner/Engineer, Federal Aviation Administration, Northwest Mountain Region, Airports Division, Helena Airports District Office, 2725 Skyway Drive, Suite 2, Helena, Montana 59602.

The request to release property may be reviewed, by appointment, in person at this same location.

SUPPLEMENTARY INFORMATION: The FAA invites public comment on the request to release property at HLN under the provisions of the AIR 21 (49 U.S.C. 47107(h)(2)).

On May 16, 2011 the FAA determined that the May 10, 2011 request submitted by HRAA to release property at HLN meets the procedural requirements of the FAA. The FAA may approve the request, in whole or in part, no later than June 24, 2011.

The following is a brief overview of the request:

HRAA is proposing the release of approximately 2,337 square feet of non-aeronautical airport property at HLN to the State of Montana Department of Transportation, to be used as right-of-way for an improved turning lane from Custer Ave to Kelleher Drive in Helena, Montana. The road improvements are expected to be constructed in 2011 and 2012 and will provide improved access to HLN and the community.

Any person may inspect, by appointment, the request in person at the FAA office listed above under the heading: FOR FURTHER INFORMATION CONTACT.

In addition, any person may, upon appointment and request, inspect the application, notice and other documents germane to the application in person at Airport Administration Office, Helena Regional Airport, Helena, Montana.

Issued in Helena, Montana on May 16, 2011.
David S. Stelling,
Manager, Helena Airports District Office.

[FR Doc. 2011-12996 Filed 5-24-11; 8:45 am]

BILLING CODE 4910-13-P